CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its proposed data collection instrument entitled: Field Network Pilot Study Report Form. Copies of the proposed information collection request may be obtained by contacting the office listed below in the ADDRESSES section of this notice.

DATES: Comments on this notice must be received by February 8, 2005, to be assured of consideration.

ADDRESSES: You may submit written input to the Corporation by any of the following methods:

(1) Electronically through the Corporation's e-mail address system to Kimberly Spring at KSpring@cns.gov.

(2) By fax to 202-565-2785, Attention Ms. Kimberly Spring.

(3) By mail sent to: Corporation for National and Community Service, Department of Research and Policy Development, 8th Floor, Attn: Ms. Kimberly Spring, 1201 New York Avenue, NW., Washington, DC 20525.

(4) By hand delivery or by courier to the Corporation's mailroom at Room 6010 at the mail address given in paragraph (3) above, between 9 a.m. and 4 p.m. Monday through Friday, except Federal holidays.

FOR FURTHER INFORMATION CONTACT: Kimberly Spring at (202) 606-5000, ext. 543, by e-mail at KSpring@cns.gov.

SUPPLEMENTARY INFORMATION: The Corporation is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility and clarity of the information to be collected; and

• Propose ways to minimize the burden of the collection of information on those who are to respond, including through the use of appropriate automated, electronic, mechanical, or other technological collection techniques or other forms of information technology, e.g., permitting electronic submissions of responses.

Background: The Corporation has contracted with the Nelson A. Rockefeller Institute of Government to carry out a Field Network Pilot Study to learn how the Corporation's goals and requirements regarding capacity building and performance measurement are affecting the AmeriCorps program and the nonprofit organizations where AmeriCorps members serve. The Pilot Study will consider how grantee and subgrantee organizations are selected; how the Corporation communicates with grantees and subgrantees; how local contexts and available funding opportunities vary from state to state; and how the Corporation's goals and requirements fit into the context of the grantees' and subgrantees' own policies and the many diverse responsibilities they face.

The Field Network Pilot Study Report Form will be used to assess the impact of the Corporation's policies around capacity building and the performance measurement initiative. Independent, local field researchers will be employed in collecting the information. During the data-gathering phase of the Pilot Study, the researchers will refer to background information about the Corporation, its programs, and the Field Network method.

Current Action: The Corporation seeks public comment on the Report Form questions, the introductory statement, and the accompanying background package.

Type of Review: New.

Agency: Corporation for National and Community Service.

Title: Field Network Pilot Study Report Form.

OMB Number: None.

Agency Number: N/A.

Affected Public: Non-profit Institutions; State, Local or Tribal Government.

Total Respondents: 84.

Frequency: Annually.

Average Time Per Response: 3 hours.

Estimated Total Burden Hours: 252.

Total Burden Cost (capital/startup): None.

Total Burden Cost (operating/maintenance): None.

Comments submitted in response to this notice will be summarized and/or included in the request for Office of Management and Budget approval of the information collection request; they will also become a matter of public record.

Dated: December 6, 2004.
Robert T. Grimm, Jr.,
Director, Research and Policy Development.

[FR Doc. 04-27146 Filed 12-9-04; 8:45 am]

BILLING CODE 6050-$$-P